Proclamation 8748 of November 1, 2011

National Family Caregivers Month, 2011

By the President of the United States of America

A Proclamation

Across our country, millions of family members, neighbors, and friends provide care and support for their loved ones during times of need. With profound compassion and selflessness, these caregivers sustain American men, women, and children at their most vulnerable moments, and through their devoted acts, they exemplify the best of the American spirit. During National Family Caregivers Month, we pay tribute to the individuals throughout America who ensure the health and well-being of their relatives and loved ones.

Many of our Nation’s family caregivers assist seniors and people with disabilities to help improve their quality of life. Their efforts help deliver short-term comfort and security, facilitate social engagement, and help individuals stay in their homes and communities as long as possible. This heroic work is often done while caregivers balance other commitments to their families, jobs, and communities. As these remarkable individuals put their own lives on hold to tend to their family members, it is our responsibility to ensure they do not have to do it alone.

To ease the emotional and financial burdens that can accompany caregiving, my Administration has striven to support family caregivers for the crucial role they perform. Vice President Joe Biden’s Middle Class Task Force has focused on the importance or investing in respite care, counseling, and training for individuals who serve aging Americans. These initiatives would give family caregivers a leg up as they continue to support their aging loved ones.

One of our Nation’s greatest responsibilities is to ensure our veterans, their families, and their caregivers receive lasting and comprehensive support. Last year, I signed the Caregivers and Veterans Omnibus Health Services Act, which helps fulfill this obligation by extending additional assistance to family members who care for severely wounded veterans from Iraq and Afghanistan. Our military caregivers exemplify the heroism found not only on the fields of battle, but also in the hearts of those who tend to our wounded warriors when they come home.

As we observe National Family Caregivers Month, we honor the tireless compassion of Americans who heal, comfort, and support our injured, our elders, and people with disabilities. This month and throughout the year, let the quiet perseverance of our family caregivers remind us of the decency and kindness to which we can all aspire.

NOW, THEREFORE, I, BARACK OBAMA, President of the United States of America, by virtue of the authority vested in me by the Constitution and the laws of the United States, do hereby proclaim November 2011 as National Family Caregivers Month. I encourage all Americans to pay tribute to those who provide for the health and well-being of their family members, friends, and neighbors.

IN WITNESS WHEREOF, I have hereunto set my hand this first day of November, in the year of our Lord two thousand eleven, and of the Independence of the United States of America the two hundred and thirty-sixth.

[FR Doc. 2011-28843

Filed 11-3-11; 11:15 am]

Billing code 3295-F2-P